LIBRARY OF CONGRESS

Copyright Royalty Board

37 CFR Chapter III

[Docket No. 18-CRB-0012-RM]

Modification and Amendment of Regulations To Conform to the MMA; Extension of Comment Period

AGENCY: Copyright Royalty Board, Library of Congress.

ACTION: Notification of inquiry; extension of comment period.

SUMMARY: On November 5, 2018, the Copyright Royalty Judges solicited comments and proposals regarding necessary and appropriate modifications and amendments to agency regulations following enactment of a new law regarding the music industry. The comment period, which was set to expire on November 26, 2018, has been extended to December 10, 2018.

DATES: The comment period for the notification of inquiry (83 FR 55334) is extended. Submit comments and proposals on or before December 10, 2018.

ADDRESSES: You may submit comments and proposals, identified by docket number 18-CRB-0012-RM, by any of the following methods:

CRB's electronic filing application: Submit comments and proposals online in eCRB at https://app.crb.gov/.

U.S. mail: Copyright Royalty Board, P.O. Box 70977, Washington, DC 20024-0977; or

Overnight service (only USPS Express Mail is acceptable): Copyright Royalty Board, P.O. Box 70977, Washington, DC 20024-0977; or

Commercial courier: Address package to: Copyright Royalty Board, Library of Congress, James Madison Memorial Building, LM-403, 101 Independence Avenue SE, Washington, DC 20559-6000. Deliver to: Congressional Courier Acceptance Site, 2nd Street NE and D Street NE, Washington, DC; or

Hand delivery: Library of Congress, James Madison Memorial Building, LM-401, 101 Independence Avenue SE, Washington, DC 20559-6000.

Instructions: Unless submitting online, commenters must submit an original, two paper copies, and an electronic version on a CD. All submissions must include a reference to the CRB and this docket number. All submissions will be posted without change to eCRB at https://app.crb.gov/ including any personal information provided.

Docket: For access to the docket to read submitted background documents or comments, go to eCRB, the Copyright Royalty Board's electronic filing and case management system, at https://app.crb.gov/ and search for docket number 18-CRB-0012-RM.

FOR FURTHER INFORMATION CONTACT: Anita Blaine, CRB Program Specialist, by telephone at (202) 707-7658 or email at crb@loc.gov.

SUPPLEMENTARY INFORMATION: On November, 14, 2018, The Copyright Royalty Judges (Judges) received a request asking that the comment period for the notification of inquiry (NOI) be extended to December 17, 2018, to “provide the most meaningful and useful comments and proposals.” Joint Motion for Extension of Time, Docket No. 18-CRB-0012-RM. The Judges balanced that concern against the time limits established by the Music Modernization Act and granted the request in part by extending the deadline for submission of comments and proposals in response to the NOI (83 FR 55334) to December 10, 2018.

Dated: November 15, 2018.
David R. Strickler,
Copyright Royalty Judge.

[FR Doc. 2018-25579 Filed 11-23-18; 8:45 am]

BILLING CODE 1410-72-P